EXPORT-IMPORT BANK

Sunshine Act Meetings

Notice of an Open Meeting of the Board of Directors of the Export-Import Bank of the United States.

TIME AND DATE: Thursday, December 17, 2020 at 9:30 a.m.

PLACE: The meeting will be held via teleconference.

STATUS: The meeting will be open to public observation by teleconference only.

MATTERS TO BE CONSIDERED: Proposal to Consider Changes to Content Policy with Respect to the Program on China and Transformational Exports.

CONTACT PERSON FOR MORE INFORMATION: Joyce B. Stone (202-257-4086). Members of the public who wish to attend the meeting via audio only teleconference should register via https://attendee.gotowebinar.com/register/3683174148646534924 by noon Wednesday, December 16, 2020. Individuals will be directed to a Webinar registration page and provided call-in information.

Joyce B. Stone,
Assistant Corporate Secretary.

[FR Doc. 2020-26927 Filed 12-3-20; 11:15 am]

BILLING CODE 6690-01-P